DEPARTMENT OF HEALTH AND HUMAN SERVICES

Administration for Children and Families

Submission for Office of Management and Budget Review; Tribal Child Support Direct Funding Request: 45 CFR 309 (Office of Management and Budget #0970-0218)

AGENCY: The Office of Child Support Services, Administration for Children and Families, Department of Health and Human Services.

ACTION: Request for public comments.

SUMMARY: The Office of Child Support Services (OCSS) is requesting a review by the Office of Management and Budget (OMB) of revisions to the Tribal Child Support Direct Funding Request: (OMB #0970-0218). These revisions are necessary to align this collection with updates resulting from a final rule: Employment and Training Services for Noncustodial Parents in the Child Support Program, which will require tribes to amend tribal plans if they elect to participate in employment and training services for non-custodial parents in the child support program.

DATES: Comments due January 30, 2025. OMB must decide about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this information collection by selecting “Currently under 30-day Review—Open for Public Comments” or by using the search function. You can also obtain copies of the proposed collection of information by emailing infocollection@acf.hhs.gov. Identify all emailed requests by the title of the information collection.

SUPPLEMENTARY INFORMATION:

Description: On May 31, 2024, OCSS published a Notice for Proposed Rulemaking (89 Federal Register (FR) 47109; Regulation Identifier Numbers (RIN) 0970-AD00) proposing to allow federal financial participation (FFP) for certain optional and nonduplicative employment and training services for eligible noncustodial parents in the child support program.

On December 13, 2024, OCSS published the Employment and Training Services for Noncustodial Parents in the Child Support Program final rule (89 FR 100789; RIN 0970-AD00). This final rule permits tribes, at their discretion, to use FFP to provide any or all of the following services: Job search assistance; job readiness training; job development and job placement services; skills assessments; job retention services; work supports; and occupational training and other skills training directly related to employment.

This rule results in revisions to this information collection, as tribes that elect to participate in employment and training services for non-custodial parents in the child support program must submit a plan amendment to OCSS. To account for tribes potentially submitting revisions to their tribal plans and as required by the Paperwork Reduction Act (PRA) of 1995, we are submitting the revised data collection to OMB for review and approval. Tribes can elect to participate in these services by submitting a plan amendment as set forth in revised 45 CFR 309.65(b). OCSS is updating the burden estimates to account for potential additional amendments because of this rule.

Respondents: Tribal IV-D Agencies.

Annual Burden Estimates

We estimate that tribes opting to provide nonduplicative employment and training services for eligible noncustodial parents will take six hours to draft the required information to amend their tribal plans. We estimate that about 36 tribes will submit amendments.

Instrument | Total number of respondents | Total number of responses per respondent | Average burden hours per response | Total burden hours | Annual burden hours
45 CFR 309-New Plan | 2 | 1 | 480 | 960 | 320
45 CFR 309-Plan Amendment | 63 | 1.5 | 105 | 9,922 | 3,307
Amendments Specific to the Optional Employment and Training Services for Non-Custodial Parents in the Child Support Program | 36 | 1 | 6 | 216 | 72
Estimated Total Annual Burden Hours |  |  |  |  | 3,699

Authority: Title IV-D of the Social Security Act Section 455(f); 45 CFR 309.

Mary C. Jones,
ACF/OPRE Certifying Officer.

[FR Doc. 2024-31186 Filed 12-30-24; 8:45 am]

BILLING CODE 4184-41-P